DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Date: June 16, 2015.
Roy E. Wright,
Deputy Associate Administrator for Insurance and Mitigation, Department of Homeland Security, Federal Emergency Management Agency.

State and county | Location and case No. | Chief executive officer of community | Community map repository | Effective date of modification | Community No.
Alabama:
Montgomery (FEMA Docket No.: B-1474) | City of Montgomery (15-04-0687P) | The Honorable Todd Strange, Mayor, City of Montgomery, P.O. Box 1111, Montgomery, AL 36104 | City Hall, 103 North Perry Street, Montgomery, AL 36104 | April 30, 2015 | 010174
Montgomery (FEMA Docket No.: B-1474) | Unincorporated areas of Montgomery County (15-04-0687P) | The Honorable Elton Dean, Sr., Chairman, Montgomery County Board of Commissioners, 101 South Lawrence Street, Montgomery, AL 36104 | 25 Aupuni Street, Hilo, HI 96720 | April 30, 2015 | 010278
Colorado:
Arapahoe (FEMA Docket No.: B-1505) | City of Aurora (14-08-1180P) | The Honorable Steve Hogan, Mayor, City of Aurora, 15151 East Alameda Parkway, Aurora, CO 80012 | City Hall, 15151 East Alameda Parkway, Aurora, CO 80012 | May 22, 2015 | 080002
Arapahoe (FEMA Docket No.: B-1505) | City of Centennial (14-08-1180P) | The Honorable Cathy Noon, Mayor, City of Centennial, 13133 East Arapahoe Road, Centennial, CO 80112 | Southeast Metro Stormwater Authority, 7437 South Fairplay Street, Centennial, CO 80112 | May 22, 2015 | 080315
Arapahoe (FEMA Docket No.: B-1505) | Unincorporated areas of Arapahoe County (14-08-1180P) | The Honorable Nancy Doty, Chair, Arapahoe County Board of Commissioners, 5334 South Prince Street, Littleton, CO 80120 | Arapahoe County Public Works Department, 6924 South Lima Street, Centennial, CO 80112 | May 22, 2015 | 080011
Douglas (FEMA Docket No.: B-1474) | Town of Castle Rock (14-08-0954P) | The Honorable Paul Donahue, Mayor, Town of Castle Rock, 100 North Wilcox Street, Castle Rock, CO 80104 | Utilities Department, 175 Kellogg Court, Castle Rock, CO 80109 | May 1, 2015 | 080050
Douglas (FEMA Docket No.: B-1474) | Unincorporated areas of Douglas County (14-08-0954P) | The Honorable Roger Partridge, Chairman, Douglas County Board of Commissioners, 100 3rd Street, Castle Rock, CO 80104 | Douglas County Public Works Department, Engineering Division, 100 3rd Street, Castle Rock, CO 80104 | May 1, 2015 | 080049
Jefferson (FEMA Docket No.: B-1474) | City of Arvada (14-08-1098P) | The Honorable Marc Williams, Mayor, City of Arvada, P.O. Box 8101, Arvada, CO 80001 | Engineering Department, 8101 Ralston Road, Arvada, CO 80001 | May 8, 2015 | 085072
Florida:
Bay (FEMA Docket No.: B-1474) | City of Panama City Beach (14-04-4599P) | The Honorable Gayle Oberst, Mayor, City of Panama City Beach, 110 South Arnold Road, Panama City Beach, FL 32413 | Building Department, 110 South Arnold Road, Panama City Beach, FL 32413 | April 23, 2015 | 120013
Bay (FEMA Docket No.: B-1474) | City of Panama City Beach (14-04-8184P) | The Honorable Gayle Oberst, Mayor, City of Panama City Beach, 110 South Arnold Road, Panama City Beach, FL 32413 | Building Department, 110 South Arnold Road, Panama City Beach, FL 32413 | April 14, 2015 | 120013
Bay (FEMA Docket No.: B-1474) | Unincorporated areas of Bay County (14-04-4599P) | The Honorable Guy M. Tunnell, Chairman, Bay County Board of Commissioners, 840 West 11th Street, Panama City, FL 32401 | Bay County Planning and Zoning Department, 707 Jenks Avenue, Suite B, Panama City, FL 32401 | April 23, 2015 | 120004
Bay (FEMA Docket No.: B-1474) | Unincorporated areas of Bay County (14-04-AA70P) | The Honorable Guy M. Tunnell, Chairman, Bay County Board of Commissioners, 840 West 11th Street, Panama City, FL 32401 | Bay County Planning and Zoning Department, 707 Jenks Avenue, Suite B, Panama City, FL 32401. | May 4, 2015 | 120004
Bradford (FEMA Docket No.: B-1505) | City of Starke (15-04-2615P) | The Honorable Travis Woods, Mayor, City of Starke, P.O. Drawer C, Starke, FL 32091 | City Clerk's Office, 209 North Thompson Street, Starke, FL 32091 | May 15, 2015 | 120017
Broward (FEMA Docket No.: B-1474) | Town of Lauderdale-By-The-Sea (15-04-0738X) | The Honorable Scot Sasser, Mayor, Town of Lauderdale-By-The-Sea, 4501 Ocean Drive, Lauderdale-By-The-Sea, FL 33308 | City Hall, 4501 Ocean Drive, Lauderdale-By-The-Sea, FL 33308 | May 7, 2015 | 125123
Collier (FEMA Docket No.: B-1505) | City of Marco Island (15-04-0522P) | The Honorable Larry Sacher, Chairman, City of Marco Island Council, 50 Bald Eagle Drive, Marco Island, FL 34145 | City Hall, 50 Bald Eagle Drive, Marco Island, FL 34145 | May 7, 2015 | 120426
Collier (FEMA Docket No.: B-1508) | Unincorporated areas of Collier County (14-04-A504P) | The Honorable Tom Henning, Chairman, Collier County Board of Commissioners, 3299 Tamiami Trail East, Suite 303, Naples, FL 34112 | Collier County Administrative Building, 3301 East Tamiami Trail, Building F, 1st Floor, Naples, FL 34112 | May 12, 2015 | 120067
Columbia (FEMA Docket No.: B-1474) | City of Lake City (13-04-6159P) | The Honorable Stephen M. Witt, Mayor, City of Lake City, 205 North Marion Avenue, Lake City, FL 32055 | City Hall, 205 North Marion Avenue, Lake City, FL 32055 | April 16, 2015 | 120406
Columbia (FEMA Docket No.: B-1474) | Unincorporated areas of Columbia County (13-04-6159P) | The Honorable Ronald Williams, Chairman, Columbia County Board of Commissioners, P.O. Box 1529, Lake City, FL 32056 | Columbia County Building and Zoning Department, 173 Northeast Hernando Avenue, Lake City, FL 32055 | April 16, 2015 | 120070
Lake (FEMA Docket No.: B-1474) | City of Fruitland Park (14-04-A712P) | The Honorable Chris Bell, Mayor, City of Fruitland Park, 506 West Berckman Street, Fruitland Park, FL 34731 | Building Department, 506 West Berckman Street, Fruitland Park, FL 34731 | April 30, 2015 | 120387
Lee (FEMA Docket No.: B-1505) | Unincorporated areas of Lee County (14-04-8329P) | The Honorable Brian Hamman, Chairman, Lee County Board of Commissioners, P.O. Box 398, Fort Myers, FL 33902 | Lee County Community Development Department, 1500 Monroe Street, 2nd Floor, Fort Meyers, FL 33901 | May 12, 2015 | 125124
Monroe (FEMA Docket No.: B-1505) | Village of Islamorada (14-04-A708P) | The Honorable Mike Forester, Mayor, Village of Islamorada, 86800 Overseas Highway, Islamorada, FL 33036 | Village Hall, 87000 Overseas Highway, Islamorada, FL 33036 | May 4, 2015 | 120424
Monroe (FEMA Docket No.: B-1505) | Unincorporated areas of Monroe County (14-04-A180P) | The Honorable Danny Kolhage, Mayor, Monroe County Board of Commissioners, 1100 Simonton Street, Key West, FL 33040 | Monroe County Planning and Environmental Resources Department, 2798 Overseas Highway, Marathon, FL 33050 | May 7, 2015 | 125129
Seminole (FEMA Docket No.: B-1505) | City of Longwood (14-04-7277P) | The Honorable John C. Maingot, Mayor, City of Longwood, 175 West Warren Avenue, Longwood, FL 32750 | Building and Planning Department, 174 West Church Avenue, Longwood, FL 32750 | May 15, 2015 | 120292
Seminole (FEMA Docket No.: B-1505) | Unincorporated areas of Seminole County (14-04-7277P) | The Honorable Bob Dallari, Chairman, Seminole County Board of Commissioners, 1101 East 1st Street, Sanford, FL 32771 | Seminole County Building Division, 1101 East 1st Street, Sanford, FL 32771 | May 15, 2015 | 120289
St. Johns (FEMA Docket No.: B-1505) | Unincorporated areas of St. Johns County (14-04-8520P) | The Honorable Rachael Bennett, Chairman, St. Johns County Board of Commissioners, 500 San Sebastian View, St. Augustine, FL 32084 | St. Johns County Administrative Building, 4020 Lewis Speedway, St. Augustine, FL 32084 | May 14, 2015 | 125147
Georgia:
Cherokee (FEMA Docket No.: B-1505) | Unincorporated areas of Cherokee County (14-04-8555P) | The Honorable L.B. Ahrens, Chairman, Cherokee County Board of Commissioners, 1130 Bluffs Parkway, Canton, GA 30114 | Cherokee County Administrative Office, 130 East Main Street, Suite 106, Canton, GA 30114 | May 18, 2015 | 130424
Cobb (FEMA Docket No.: B-1505) | City of Smyrna (14-04-9804P) | The Honorable Arthur Max Bacon, Mayor, City of Smyrna, 2800 King Street, Smyrna, GA 30080 | City Engineer's Office, 2800 King Street, Smyrna, GA 30080 | May 18, 2015 | 130057
Mississippi: Rankin (FEMA Docket No.: B-1505) | City of Brandon (14-04-8704P) | The Honorable Butch Lee, Mayor, City of Brandon, P.O. Box 1539, Brandon, MS 39043 | City Hall, 1000 Municipal Drive, Brandon, MS 39042 | May 12, 2015 | 280143
Montana: Butte-Silver Bow (FEMA Docket No.: B-1474) | Unincorporated areas of Butte-Silver Bow County (14-08-0867P) | The Honorable Cindi Shaw, Chair, Butte-Silver Bow County Council of Commissioners, 155 West Granite Street, Butte, MT 59701 | Butte-Silver Bow County Floodplain Administrator, 115 West Granite Street, Butte, MT 59701 | April 17, 2015 | 300077
North Carolina: Columbus (FEMA Docket No.: B-1508) | Unincorporated areas of Columbus County (14-04-6649P) | The Honorable Trent Burroughs, Chairman, Columbus County Board of Commissioners, 111 Washington Street, Whiteville, NC 28472 | Columbus County Planning Department, 111 Washington Street, Whiteville, NC 28472 | May 5, 2015 | 370305
South Carolina:
Lancaster (FEMA Docket No.: B-1474) | Unincorporated areas of Lancaster County (14-04-3565P) | The Honorable Larry McCullough, Chairman, Lancaster County Council, 101 North Main Street, 2nd Floor, Lancaster, SC 29721 | Lancaster County Building and Zoning Department, 101 North Main Street, Lancaster, SC 29721 | April 23, 2015 | 450120
Richland (FEMA Docket No.: B-1505) | Unincorporated areas of Richland County (14-04-5349P) | The Honorable Norman Jackson, Chairman, Richland County Council, P.O. Box 192, Columbia, SC 29201 | Richland County Floodplain Coordinator, 2020 Hampton Street, 1st Floor, Columbia, SC 29204 | May 18, 2015 | 450170
South Dakota:
Lincoln (FEMA Docket No.: B-1505) | Town of Harrisburg (14-08-0638P) | The Honorable Julie Burke-Bowen, Mayor, Town of Harrisburg, P.O. Box 26, Harrisburg, SD 57032 | City Hall, 203 Prairie Street, Harrisburg, SD 57032 | May 22, 2015 | 460114
Lincoln (FEMA Docket No.: B-1505) | Unincorporated areas of Lincoln County (14-08-0638P) | The Honorable Dale Long, Chairman, Lincoln County Board of Commissioners, 104 North Main Street, Canton, SD 57013 | Lincoln County Court House, 105 East 5th Street, Canton, SD 57013 | May 22, 2015 | 460277
Tennessee: Shelby (FEMA Docket No.: B-1505) | Town of Collierville (14-04-6821P) | The Honorable Stan Joyner, Jr., Mayor, Town of Collierville, 500 Poplar View Parkway, Collierville, TN 38017 | Town Hall, 500 Poplar View Parkway, Collierville, TN 38017 | May 8, 2015 | 470263
Utah:
Davis (FEMA Docket No.: B-1474) | City of Kaysville (14-08-0854P) | The Honorable Steve A. Hiatt, Mayor, City of Kaysville, 23 East Center Street, Kaysville, UT 84037 | City Hall, 23 East Center Street, Kaysville, UT 84037 | May 8, 2015 | 490046
Salt Lake (FEMA Docket No.: B-1474) | City of Murray (14-08-0600P) | The Honorable Ted Eyre, Mayor, City of Murray, 5025 South State Street, 2nd Floor, Murray, UT 84107 | Public Works Office, 4646 South 500 West, Murray, UT 84123 | April 16, 2015 | 490103
Washington (FEMA Docket No.: B-1505) | City of St. George (14-08-1160P) | The Honorable Jon Pike, Mayor, City of St. George, 175 East 200 North, St. George, UT 84770 | Engineering Department, 175 East 200 North, St. George, UT 84770 | May 14, 2015 | 490177
Washington (FEMA Docket No.: B-1508) | Town of Springdale (14-08-1247P) | The Honorable Stan Smith, Mayor, Town of Springdale, 118 Lion Boulevard, Springdale, UT 84767 | Planning and Zoning Department, 118 Lion Boulevard, Springdale, UT 84767 | May 22, 2015 | 490179
Washington (FEMA Docket No.: B-1505) | Unincorporated areas of Washington County (14-08-1160P) | The Honorable James J. Eardley, Chairman, Washington County Board of Commissioners, 197 East Tabernacle; Street St. George, UT 84770 | Washington County Planning Department, 197 East Tabernacle Street, St. George, UT 84770 | May 14, 2015 | 490224

[FR Doc. 2015-16551 Filed 7-6-15; 8:45 am]

BILLING CODE 9110-12-P